NATIONAL FOUNDATION ON THE ARTS AND THE HUMANITIES

National Endowment for the Arts

Arts Advisory Panel

Pursuant to Section 10(a)(2) of the Federal Advisory Committee Act (Pub. L. 92-463), as amended, notice is hereby given that five meetings of the Arts Advisory Panel to the National Council on the Arts will be held at the Nancy Hanks Center, 1100 Pennsylvania Avenue, NW., Washington, DC, 20506 as follows (ending times are approximate):

Arts Education (application review): October 2-5, 2007 in Room 716. A portion of this meeting, from 2:30 p.m. to 3 p.m. on October 5th, will be open to the public for a policy discussion. The remainder of the meeting, from 9 a.m. to 5:30 p.m. on October 2nd-4th, and from 9 a.m. to 2:30 p.m. and 3p.m. to 3:30 p.m. on October 5th, will be closed.

Arts Education (application review): October 10-11, 2007 in Room 716. A portion of this meeting, from 1:30 p.m. to 2 p.m. on October 10th, will be open to the public for a policy discussion. The remainder of the meeting, from 9 a.m. to 6 p.m. on October 10th, and from 9 a.m. to 1:30 p.m. and 2 p.m. to 3 p.m. on October 11th, will be closed.

Arts Education (application review): October 15, 2007 in Room 716. This meeting, from 9 a.m. to 5:30 p.m., will be closed.

Arts Education (application review): October 22-25, 2007 in Room 716. A portion of this meeting, from 1:15 p.m. to 2 p.m. on October 25th, will be open to the public for a policy discussion. The remainder of the meeting, from 9 a.m. to 6 p.m. on October 22nd-24th, and from 9 a.m. to 1:15 p.m. and 2 p.m. to 4:30 p.m. on October 25th, will be closed.

Presenting (application review): October 29-30, 2007 in Room 716. This meeting, from 9 a.m. to 5:30 p.m. on October 29th, and from 9 a.m. to 1:30 p.m. on October 30th, will be closed.

The closed portions of meetings are for the purpose of Panel review, discussion, evaluation, and recommendations on financial assistance under the National Foundation on the Arts and the Humanities Act of 1965, as amended, including information given in confidence to the agency. In accordance with the determination of the Chairman of February 21, 2007, these sessions will be closed to the public pursuant to subsection (c)(6) of section 552b of Title 5, United States Code.

Any person may observe meetings, or portions thereof, of advisory panels that are open to the public, and if time allows, may be permitted to participate in the panel's discussions at the discretion of the panel chairman. If you need special accommodations due to a disability, please contact the Office of AccessAbility, National Endowment for the Arts, 1100 Pennsylvania Avenue, NW., Washington, DC 20506, 202/682-5532, TDY-TDD 202/682-5496, at least seven (7) days prior to the meeting.

Further information with reference to these meetings can be obtained from Ms. Kathy Plowitz-Worden, Office of Guidelines & Panel Operations, National Endowment for the Arts, Washington, DC, 20506, or call 202/682-5691.

Dated: September 12, 2007.
Kathy Plowitz-Worden,
Panel Coordinator, Panel Operations, National Endowment for the Arts.

[FR Doc. E7-18284 Filed 9-17-07; 8:45 am]

BILLING CODE 7537-01-P